DEPARTMENT OF ENERGY

Federal Energy Regulatory Commission

[Docket No. EL03-23-000, et al.]

Pacer Power LLC, et al.; Electric Rate and Corporate Filings

November 6, 2002.

The following filings have been made with the Commission. The filings are listed in ascending order within each docket classification.

1. Pacer Power LLC

[Docket No. EL03-23-000]

Take notice that on October 31, 2002, Pacer Power LLC (Pacer) filed with the Federal Energy Regulatory Commission (Commission) a petition for a declaratory order requesting the Commission disclaim jurisdiction over Pacer based on Pacer's status as a power broker. Pacer requests that the Commission act on the petition by the Commission's first January meeting date.

Comment Date: December 5, 2002.

2. ISO New England Inc.

[Docket No. ER01-316-007]

Take notice that on October 31, 2002, ISO New England, Inc., filed its Index of Customers for the third quarter of 2002 for its Tariff for Transmission Dispatch and Power Administration Services in compliance with Order No. 614.

Comment Date: November 21, 2002.

3. California Independent System Operator Corporation

[Docket No. ER03-111-000]

Take notice that on October 31, 2002, the California Independent System Operator Corporation (ISO) submitted for Commission filing and acceptance the Utility Distribution Company Operating Agreement (UDC Operating Agreement) between the ISO and the City of Azusa, California. The ISO requests that the UDC Operating Agreement be made effective as of January 1, 2003. The ISO requests privileged treatment, pursuant to 18 CFR 388.112, with regard to portions of the filing.

The ISO has served copies of this filing upon the City of Azusa, California and the Public Utilities Commission of the State of California.

Comment Date: November 21, 2002.

4. New York Independent System Operator, Inc.

[Docket No. ER03-112-000]

Take notice that on October 31, 2002, the New York System Operator, Inc. (NYISO) tendered for filing proposed revisions to its Market Administration and Control Area Services Tariff (Services Tariff) designed to extend the current methodology and rate used to calculate payments for Voltage Support Service through the end of calendar year 2003. The NYISO has requested that the Commission make the filing effective on January 1, 2003.

The NYISO has served a copy of this filing on all persons that have executed Service Agreements under the NYISO Services Tariff or the NYISO Open Access Transmission Tariff, on the New York Public Service Commission, and on the electric utility regulatory agencies in New Jersey and Pennsylvania.

Comment Date: November 21, 2002.

5. Idaho Power Company

[Docket No. ER03-113-000]

Take notice that on October 31, 2002, Idaho Power Company filed a Service Agreement for Firm Point-to-Point Transmission Service between Idaho Power Company and Pinnacle West Capital Corporation under its open access transmission tariff in the above-captioned proceeding.

Comment Date: November 21, 2002.

6. Great Bay Power Marketing, Inc.

[Docket No. ER03-114-000]

Take notice that on October 31, 2002, Great Bay Power Marketing, Inc. (GBPM) tendered for filing with the Federal Energy Regulatory Commission (Commission), an application for authority to sell electric energy, capacity and certain ancillary services at market-based rates under section 205(a) of the Federal Power Act, 16 U.S.C. 824d(a), and accompanying requests for certain blanket approvals and for the waiver of certain Commission regulations. GBPM requests that the Commission accept its Original Rate Schedule FERC No. 1 for filing.

Comment Date: November 21, 2002.

7. PJM Interconnection, LLC

[Docket No. ER03-115-000]

Take notice that on October 31, 2002, PJM Interconnection, LLC (PJM), submitted for filing an executed interconnection service agreement between PJM and Ocean Peaking Power, LP n/k/a Surfside Funding, Limited Partnership (Ocean Peaking/Surfside Funding).

PJM requests a waiver of the Commission's 60-day notice requirement to permit the effective date agreed to by Surfside and PJM. Copies of this filing were served upon Ocean Peaking/Surfside Funding c/o Consolidated Edison Development, Inc. and the state regulatory commissions within the PJM region.

Comment Date: November 21, 2002.

8. Duke Energy Oakland, LLC

[Docket No. ER03-116-000]

Take notice that on October 31, 2002, pursuant to 16 U.S.C. 824d, and 18 CFR 35.13, Duke Energy Oakland, LLC (DEO) tendered for filing certain revisions to rate schedules A, B, and D of its RMR agreement with the California Independent System Operator (CAISO). DEO also tendered in the same submission an informational filing detailing and supporting the proposed changes to its Annual Fixed Revenue Requirement (AFRR) and Variable O&M Rate (VO&M), pursuant to schedule F of its RMR agreement.

DEO requests an effective date of January 1, 2003, for these revisions. Copies of the filing have been served upon the CAISO, Pacific Gas and Electric Company, the Public Utilities Commission of the State of California, and the Electricity Oversight Board of the State of California.

Comment Date: November 21, 2002.

9. Duke Energy South Bay, LLC

[Docket No. ER03-117-000]

Take notice that on October 31, 2002, pursuant to 16 U.S.C. 824d, and 18 CFR 35.13, Duke Energy South Bay, LLC (DESB) tendered for filing certain revisions to rate schedules A, B, and D of its RMR agreement with the California Independent System Operator (CAISO). DESB also tendered in the same submission an informational filing detailing and supporting the proposed changes to its Annual Fixed Revenue Requirement (AFRR) and Variable O&M Rate (VO&M), pursuant to schedule F of its RMR agreement.

DESB requests an effective date of January 1, 2003, for these revisions. Copies of the filing have been served upon the CAISO, San Diego Gas & Electric Company, the Public Utilities Commission of the State of California, and the Electricity Oversight Board of the State of California.

Comment Date: November 21, 2002

10. PJM Interconnection, LLC

[Docket No. ER03-118-000]

Take notice that on October 31, 2002, PJM Interconnection, LLC (PJM), filed amendments to schedule 9 of the PJM Open Access Transmission Tariff (PJM Tariff), the Reliability Assurance Agreement Among Load-Serving Entities in the PJM Control Area (RAA), and the Reliability Assurance Agreement Among Load-Serving g Entitites in the PJM West Region (West RAA) to: (1) Eliminate the two schedules involving the smallest portion of PJM's costs, shifting those costs to other schedules; and (2) transfer PJM's costs for the Commission's part 382 annual charges from one of the existing schedules to a new schedule devoted solely to such annual charges.

Copies of this filing were served upon all PJM members and each state electric utility regulatory commission in the PJM region. PJM proposes an effective date of January 1, 2003, for the amendments.

Comment Date: November 21, 2002.

11. MDU Resources Group, Inc.

[Docket No. ES03-10-000]

Take notice that on October 30, 2002, MDU Resources Group, Inc. submitted an application pursuant to section 204 of the Federal Power Act seeking authorization to incur short-term indebtedness in an amount not to exceed $125 million.

Comment Date: November 27, 2002.

12. Oklahoma Gas and Electric Company

[Docket No. ES03-12-000]

Take notice that on October 31, 2002, Oklahoma Gas and Electric Company submitted an application pursuant to section 204 of the Federal Power Act seeking authorization to issue not more than $400,000,000 of short-term debt securities on or before December 31, 2004, with a final maturity date of December 31, 2005.

Comment Date: November 22, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. 02-28770 Filed 11-12-02; 8:45 am]

BILLING CODE 6717-01-P